DEPARTMENT OF LABOR

Employment and Training Administration

[TA-W-52,972]

Exfo Gnubi Products Group, Inc., Gnubi Communications, L.P., Gnubi Communications, Inc., Addison, TX; Amended Certification Regarding Eligibility To Apply for Worker Adjustment Assistance

In accordance with section 223 of the Trade Act of 1974 (19 U.S.C. 2273) the Department of Labor issued a Certification of Eligibility to Apply for Worker Adjustment Assistance on October 17, 2003, applicable to workers of Exfo Gnubi Products Group, Inc., Addison, Texas. The notice was published in the Federal Register on November 6, 2003 (68 FR 62834).

At the request of the State agency, the Department reviewed the certification for workers of the subject firm. The workers are engaged in the production of telecommunications test equipment.

New information shows that Exfo Gnubi Products Group, Inc. purchased Gnubi Communications in October 2002. Workers separated from employment at the subject firm had their wages reported under two separate unemployment insurance (UI) tax accounts for Gnubi Communications, L.P. and Gnubi Communications, Inc.

Accordingly, the Department is amending the certification to properly reflect this matter.

The intent of the Department's certification is to include all workers of Exfo Gnubi Products Group, Inc., Addison, Texas who were adversely affected by a shift in production of telecommunications test equipment to Canada.

The amended notice applicable to TA-W-52,972 is hereby issued as follows:

All workers of Exfo Gnubi Products Group, Inc., Gnubi Communications, L.P., and Gnubi Communications, Inc., Addison, Texas, who became totally or partially separated from employment on or after September 9, 2002, through October 17, 2005, are eligible to apply for adjustment assistance under section 223 of the Trade Act of 1974.

Signed at Washington, DC this 21st day of November 2003.
Richard Church,
Certifying Officer, Division of Trade Adjustment Assistance.

[FR Doc. 03-31857 Filed 12-24-03; 8:45 am]

BILLING CODE 4510-30-P